DEPARTMENT OF HOMELAND SECURITY

Coast Guard

33 CFR Part 117

[Docket No. USCG-2013-0889]

Drawbridge Operation Regulations; Mystic River, Charlestown and Everett, MA

AGENCY: Coast Guard, DHS.

ACTION: Notice of temporary deviation from regulations.

SUMMARY: The Commander, First Coast Guard District, has issued a temporary deviation from the regulation governing the operation of the Alford Street (Rt-99) Bridge across the Mystic River, mile 1.4, between Boston and Everett, Massachusetts. The bridge owner, the City of Boston, and Massachusetts Department of Transportation will be performing electrical repairs and structural rehabilitation at the bridge. This deviation allows the bridge to remain in the closed position for six months to facilitate scheduled bridge rehabilitation.

DATES: This deviation is effective from November 1, 2013 through April 29, 2014.

ADDRESSES: Documents mentioned in this preamble as being available in the docket are part of docket USCG-2013-0889 and are available online at www.regulations.gov, inserting USCG-2013-0889 in the “Keyword” and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mr. John McDonald, Project Officer, First Coast Guard District, telephone (617) 223-8364, john.w.mcdonald@uscg.mil. If you have questions on viewing the docket, call Barbara Hairston, Program Manager, Docket Operations, telephone 202-366-9826.

SUPPLEMENTARY INFORMATION: The Alford Street (Rt-99) Bridge, across the Mystic River between Charlestown and Everett, Massachusetts, has a vertical clearance in the closed position of 7 feet above mean high water and 16 feet above mean low water. The bridge operating regulations are listed at 33 CFR 117.609.

The waterway is transited by seasonal recreational vessels of various sizes that normally are in winter storage November through April.

Massachusetts Department of Transportation requested a temporary deviation to facilitate electrical repairs and structural rehabilitation at the bridge.

Under this temporary deviation the Alford Street (Rt-99) Bridge may remain in the closed position from November 1, 2013 through April 29, 2014.

The bridge is being rehabilitated by Massachusetts Department of Transportation for the bridge owner, the City of Boston.

This is the third winter closure for the same time period. No objections were received during the past two winter closure periods. The recreational vessels that normally transit the Alford Street (Rt-99) Bridge are in winter storage during the time period this deviation will be in effect.

We contacted the upstream facilities this fall regarding this proposed 2013-2014 winter closure and no objections were received.

There are no alternate routes for vessel traffic; however, vessels that can pass under the closed draw during this closure may do so at any time. The bridge may be opened in the event of an emergency. The Coast Guard will inform the users of the waterway through our Local and/or Broadcast Notices to Mariners of the change in operating schedule for the bridge so that vessels can arrange their transits to minimize any impact caused by the temporary deviation.

In accordance with 33 CFR 117.35(e), the bridge must return to its regular operating schedule immediately at the end of the designated time period. This deviation from the operating regulations is authorized under 33 CFR 117.35.

Dated: October 15, 2013.
Gary Kassof,
Bridge Program Manager, First Coast Guard District.

[FR Doc. 2013-26242 Filed 11-1-13; 8:45 am]

BILLING CODE 9110-04-P